GENERAL SERVICES ADMINISTRATION

[Notice BSC-TRT-2022-01; Docket No. BSC-TRT-2022-0003; Sequence 1]

Business Standards Council Review of Travel, Relocation, and Transportation (TRT) Federal Integrated Business Framework Business Standards: Request For Public Comment

AGENCY: Office of Government-wide Policy; General Services Administration (GSA).

ACTION: Request for public comment.

SUMMARY: This notice informs the public of the opportunity to provide input on the proposed travel and expense management business standards that have been created in support of Federal shared services. This is the first set of TRT standards being developed and input will be used in formulation of business standards for Federal travel.

DATES: Comments due: Interested parties should submit comments via the method outlined in the ADDRESSES section on or before November 23, 2022.

ADDRESSES: Submit comments in response to Notice BSC-TRT-2022-01 by Regulations.gov: http://www.regulations.gov. Submit comments via the Federal eRulemaking portal by searching for “Notice BSC-TRT-2022-01.” Select the link “Comment Now” that corresponds with “Notice BSC-TRT-2022-01.” Follow the instructions provided at the screen. Please include your name, company name (if any), and “Notice BSC-TRT-2022-01” on your attached document.

• Instructions: Please submit comments only and cite “Notice BSC-TRT-2022-01,” in all correspondence related to this notice. Comments received generally will be posted without change to http://www.regulations.gov, including any personal and/or business confidential information provided. To confirm receipt of your comment(s), please check http://www.regulations.gov, approximately two to three business days after submission to verify posting.

FOR FURTHER INFORMATION CONTACT: Thomas Mueller, Travel, Relocation, Transportation & Mail Policies Director, at 202-208-0247, or by email at thomas.mueller@gsa.gov.

SUPPLEMENTARY INFORMATION: On April 26, 2019, the Office of Management and Budget published OMB memorandum 19-16, Centralized Mission Support Capabilities for the Federal Government (available at https://www.whitehouse.gov/wp-content/uploads/2019/04/M-19-16.pdf). Mission support business standards, established and agreed to by agencies, using the Federal Integrated Business Framework (FIBF) website at https://ussm.gsa.gov/fibf/, enable the Federal Government to better coordinate on the decision-making needed to determine what can be adopted and commonly shared. These business standards are an essential first step towards agreement on outcomes, data, and cross-functional end-to-end processes that will drive economies of scale and leverage the Government's buying power. The business standards will be used as the foundation for common mission support services shared by Federal agencies.

GSA serves as the TRT business standards lead on the Business Standards Council (BSC). The goal of the travel and expense management business standards is to drive travel consistency, equity, and standardization across the Federal Government.

GSA is seeking public feedback on these draft business standards (i.e., functions and activities, business capabilities, business use cases, standard data elements, service measures, and business information exchange standards between the travel solution and financial management solution(s)), including comments on understandability of the standards, suggested changes, and usefulness of the draft standards to industry and agencies.

Guiding questions in standard development include:

• Do the draft business standards appropriately document the business processes covered?

• Are the draft business standards easy to understand?

• Will your organization be able to show how your solutions and/or services can meet these draft business standards?

• What would you change about the draft business standards? Is there anything missing?

Comments will be used in formulation of the final business standards.

Krystal J. Brumfield,
Associate Administrator, Office of Government-wide Policy, General Services Administration.

[FR Doc. 2022-23076 Filed 10-21-22; 8:45 am]

BILLING CODE 6820-14-P